FEDERAL COMMUNICATIONS COMMISSION

47 CFR Part 76

[MB Docket No. 07-198; DA 08-113]

Review of the Commission's Program Access Rules and Examination of Programming Tying Arrangements

AGENCY: Federal Communications Commission.

ACTION: Proposed rule; extension of reply comment period.

SUMMARY: The Media Bureau extends the reply comment deadline on the Notice of Proposed Rulemaking (NPRM) on revisions to the Commission's program access and retransmission consent rules and whether it may be appropriate to preclude the practice of programmers to tie desired programming with undesired programming. To facilitate the development of a thorough record, the deadline for filing reply comments in response to the NPRM is extended to February 12, 2008.

DATES: Reply comments are due on or before February 12, 2008.

ADDRESSES: You may submit comments, identified by MB Docket No. 07-198, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: David Konczal, David.Konczal@fcc.gov, of the Media Bureau, Policy Division, (202) 418-2120.

SUPPLEMENTARY INFORMATION: This is a summary of the Order in MB Docket No. 07-198, DA 08-113, released on January 17, 2008. The full text of this document is available for public inspection and copying during regular business hours in the FCC Reference Center, Federal Communications Commission, 445 12th Street, SW., CY-A257, Washington, DC 20554. This document will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Summary of the Order

1. On October 1, 2007, the Commission released an NPRM on revisions to the Commission's program access and retransmission consent rules and whether it may be appropriate to preclude the practice of programmers to tie desired programming with undesired programming. The NPRM set deadlines for filing comments and reply comments at 30 and 45 days, respectively, after publication of a summary of the NPRM in the Federal Register. A summary of the NPRM was published in the Federal Register on October 31, 2007, 72 FR 61590, October 31, 2007. Accordingly, the filing dates were initially established as November 30, 2007 for comments and December 17, 2007 for reply comments. On November 20, 2007, the Media Bureau released a Public Notice extending the time for filing comments to January 4, 2008, and the time for filing reply comments to January 22, 2008 (72 FR 73744, December 28, 2007).

2. The Walt Disney Company (Disney), Fox Entertainment Group, Inc. and Fox Television Holdings, Inc. (Fox), and Viacom Inc. (Viacom) filed motions seeking a 30-day extension of the reply comment deadline. The parties argue that the instant proceeding is complex, fact-intensive, and requires parties to review over a thousand pages of comments. The parties contend that the eighteen-day period between the comment and reply comment deadlines does not provide sufficient time for parties to respond effectively. The parties submit that additional time to prepare reply comments will cause no hardship or prejudice to other interested parties or to the Commission and will facilitate the development of a meaningful record.

3. As set forth in § 1.46 of the Commission's rules, the Commission's policy is that extensions of time for filing comments in rulemaking proceedings shall not be routinely granted. 47 CFR 1.46. In this case, however, an extension of the reply comment period is warranted to enable commenters to adequately review and respond to the extensive comments filed in response to the NPRM. We decline, however, to grant the full extension requested by the parties. With the additional extension granted herein, interested parties will now have a total of 39 days to prepare reply comments. As the parties note, this is longer than the 30-day reply period provided in other recent proceedings. We believe that this provides parties with ample time to respond to the comments filed in response to the NPRM.

4. Accordingly, to the extent described above, we hereby grant the Motions for Extension of Time filed in MB Docket No. 07-198 by Disney, Fox, and Viacom. The time for filing reply comments is extended to February 12, 2008.

5. This action is taken pursuant to authority found in sections 4(i), 4(j), and 303(r) of the Communications Act of 1934, as amended, 47 U.S.C. 154(i), 154(j), and 303(r), and §§ 0.61, 0.283, and 1.46 of the Commission's rules, 47 CFR 0.61, 0.283, and 1.46.

6. Specific instructions for filing comments are located at paragraphs 26-27 of the item as published in the Federal Register and at paragraphs 139-142 of the item as released by the Commission and that appears on the Commission's Web site: http://hraunfoss.fcc.gov/edocs_public/attachmatch/FCC-07-169A1.doc

Federal Communications Commission.
Steven A. Broeckaert,
Senior Deputy Chief, Policy Division, Media Bureau.

[FR Doc. E8-2566 Filed 2-11-08; 8:45 am]

BILLING CODE 6712-01-P